COMMISSION ON CIVIL RIGHTS

Notice of Public Meeting of the California Advisory Committee

AGENCY: U.S. Commission on Civil Rights.

ACTION: Announcement of virtual business meetings.

SUMMARY: Notice is hereby given, pursuant to the provisions of the rules and regulations of the U.S. Commission on Civil Rights (Commission) and the Federal Advisory Committee Act (FACA) that the California Advisory Committee (Committee) will hold a series of virtual business meetings via ZoomGov on the following dates and times listed below. These meetings are for the purpose of reviewing and discussing the latest draft of their report on the civil rights implications of AB5.

DATES: These meetings will take place on:

• Tuesday, April 18, 2023, from 1:00 p.m.-2:30 p.m. PT.

• Tuesday, May 16, 2023, from 1:00 p.m.-2:30 p.m. PT.

• Friday, June 16, 2023, from 1:00 p.m.-2:30 p.m. PT.

ADDRESSES: Zoom Link to Join:

• Tuesday, April 18th: https://www.zoomgov.com/meeting/register/vJIsf-CtrjwoGa_vs2HbfL6gjvtJv6-pu9M.

• Tuesday, May 16th: https://www.zoomgov.com/meeting/register/vJIsf-CtrjwoGa_vs2HbfL6gjvtJv6-pu9M.

• Friday, June 16th: https://www.zoomgov.com/meeting/register/vJItdemgrTIoH3ECxG_1nKQsiTklnVcYIUE.

FOR FURTHER INFORMATION CONTACT: Brooke Peery, Designated Federal Officer (DFO) at bpeery@usccr.gov or by phone at (202) 701-1376. Persons with hearing impairments may also follow the proceedings by first calling the Federal Relay Service at 1-800-877-8339 and providing the Service with the conference call number and conference ID number.

SUPPLEMENTARY INFORMATION: Members of the public are entitled to make comments during the open period at the end of the meeting. Members of the public may also submit written comments; the comments must be received in the Regional Programs Unit within 30 days following the meeting. Written comments may be emailed to Brooke Peery (DFO) at bpeery@usccr.gov.

Records and documents discussed during the meeting will be available for public viewing prior to and after the meeting at https://www.facadatabase.gov/FACA/FACAPublicViewCommitteeDetails?id=a10t0000001gzkUAAQ.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome & Roll Call

II. Committee Discussion

III. Public Comment

IV. Adjournment

Dated: March 15, 2023.
David Mussatt,
Supervisory Chief, Regional Programs Unit.

[FR Doc. 2023-05654 Filed 3-17-23; 8:45 am]

BILLING CODE 6335-01-P